DEPARTMENT OF AGRICULTURE

Natural Resources Conservation Service

Rehabilitation of Floodwater Retarding Structure No. 7 of the West Fork Point Remove Creek Watershed; Conway County, AR

AGENCY: Natural Resources Conservation Service.

ACTION: Notice of a Finding of No Significant Impact.

SUMMARY: Pursuant to section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the rehabilitation of Floodwater Retarding Structure No. 7 of the West Fork Point Remove Creek Watershed, Conway County, Arkansas.

FOR FURTHER INFORMATION CONTACT: Kalven L. Trice, State Conservationist, Natural Resources Conservation Service, Rm. 3416 Federal Building, 700 West Capital Avenue, Little Rock, AR 72201-3225. Telephone (501) 301-3100

SUPPLEMENTARY INFORMATION: The environmental assessment of this federally assisted action indicates that the project will not cause significant local, regional, or national impacts on the environment. As a result of these findings, Kalven L. Trice, State Conservationist, has determined that the preparation and review of an environmental impact statement is not needed for this project.

The project will rehabilitate Floodwater Retarding Structure (FWRS) No. 7 to maintain the present level of flood control and comply with the current dam safety and performance standards. Local Sponsoring Organizations for the rehabilitation of FWRS No. 7 are the Point Remove Watershed Improvement District and the Conway County Conservation District.

Rehabilitation of FWRS No. 7 will require the dam to be modified to meet current performance and safety standards for a high hazard dam. The modification will consist of

• Lengthening the principal spillway conduit by 42 feet to accommodate the new top of dam elevation. The existing principal spillway inlet and conduit size are adequate.

• Maintaining the principal spillway crest at Elevation 539.4, the current permanent pool elevation.

• Modifying the existing 200-foot auxiliary spillway to meet integrity requirements by increasing the length of the level crest section from 50 feet to 150 feet.

• Increase the size of the principal spillway low stage port opening to meet 100-year, 10 day PSH drawdown criteria.

• Raising the top of dam from Elevation 566.0 feet to Elevation 570.9 feet to safely pass the 6-hour to 72-hour duration PMP storms.

All disturbed areas will be planted to plants that have wildlife values. The proposed work will not affect any prime farmland, endangered or threatened species, or cultural resources. Adverse impacts to wetlands will be temporary and minor.

Federal assistance will be provided under authority of the Small Watershed Rehabilitation Amendments of 2000 (Section 313, Pub. L. 106-472). Total project cost is estimated to be $871,800, of which $624,300 will be paid from the Small Watershed Rehabilitation funds and $247,500 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting Kalven L. Trice, State Conservationist.

No administrative action on implementation of the proposal will be taken until 30 days after the date of this publication in the Federal Register.

Dated: July 31, 2007.
Kalven L. Trice,
State Conservationist.

[FR Doc. E7-15626 Filed 8-9-07; 8:45 am]

BILLING CODE 3410-16-P